FEDERAL ELECTION COMMISSION

[Notice 2008-1]

Rules of Procedure

AGENCY: Federal Election Commission.

ACTION: Notice of Rules of Procedure.

SUMMARY: The Federal Election Commission is revising its written rules for conducting its activities to provide for the circumstance when the Commission has fewer than four Members. Further information is provided in the supplementary information that follows.

FOR FURTHER INFORMATION CONTACT: Associate General Counsel Lawrence L. Calvert, 999 E Street, NW., Washington, DC 20463, (202) 694-1650 or (800) 424-9530.

SUPPLEMENTARY INFORMATION: Under 2 U.S.C. 437c(e) the Commission “shall prepare written rules for the conduct of its activities.” In 1978, the Commission adopted Directive 10 to fulfill this statutory obligation. See Rules of Procedures, 43 FR 31433, (July 21, 1978). On December 20, 2007, the Commission adopted revisions to Directive 10, which added new section L, to provide rules of conduct when the Commission has fewer than four Members. The Commission is publishing the revised Directive 10 below in accordance with 2 U.S.C. 437c(e). For the convenience of the reader, the entire text of Directive 10 is set forth below including sections A through K, which have not been published in the Federal Register since 1978.

Directive 10

A. Meetings

The Commission shall meet at least once every month and also at the call of any Member, pursuant to U.S.C. 437c(d).

1. For the purpose of these rules, the word Member means a Commissioner appointed by the President with the advice and consent of the Senate pursuant to 2 U.S.C. 437c(a)(1).

2. For the purpose of these rules, the word meeting means the collegiate deliberation of at least four Members of the Commission pursuant to 2 U.S.C. 437c(d).

B. Quorum

Four Members of the Commission shall constitute a quorum for the consideration and resolution of matters that involve the exercise of its duties and powers under the Federal Election Campaign Act of 1971 as amended and Chapters 95 and 96 of the Internal Revenue Code of 1954 (the Act). If less than four Members of the Commission are present at any time during a Commission meeting, the Chairman shall declare a temporary recess until a quorum is again present at which time the meeting may resume.

C. Presiding Officer

1. The Chairman of the Commission shall be the presiding officer over meetings of the Commission.

2. He or she shall call meetings to order.

3. The Vice-Chairman shall act as presiding officer in the absence or disability of the Chairman or in the event of a vacancy in the office of Chairman. In the absence of the Chairman and Vice-Chairman, the Members of the Commission present shall select a presiding officer, to act during the absence of the Chairman and Vice-Chairman.

D. Introduction of Business

1. Meetings of the Commission shall be called to order by the Chairman.

2. The Chairman shall ascertain the presence of a quorum before proceeding with the business of any meeting.

3. All business before the Commission shall be brought by the presiding officer.

E. Motions

1. Any motion shall be reduced to writing at the request of any Member of the Commission.

2. Any motion may be withdrawn or modified by the movant at any time before it is amended or voted upon.

3. Any principal or secondary motion that exercises a duty or power of the Commission under the Act shall require four votes for approval.

4. Any motion to adjourn or recess shall require a majority vote of at least three Members of the Commission for approval.

5. Any principal or secondary motion regarding a procedural matter shall require a majority vote of at least three Members of the Commission for approval.

6. For the purpose of these rules, a procedural motion is any matter not exercising the powers of the Commission under the Federal Election Campaign Act, as amended or Chapter 95 or 96 of the Internal Revenue Code of 1954, including but not limited to any motion to delay a vote on a matter to any subsequent meeting; or any motion requesting a status report; or directing further studies, information and reports from the General Counsel, the Staff Director or any division thereof; or any motion to waive the timely submission requirement for circulation of material for the agenda of the Commission.

7. Motions to Consider

The introduction of a principal motion puts a matter before the Commission for deliberation. When any such matter is under debate the Chairman shall entertain no motion except:

(a) A motion to adjourn.

(b) A motion to recess.

(c) A motion to call for the order of the day.

(d) Motion to Reconsider. The effect of the adoption of a motion to reconsider is to place before the Commission again the question on which the vote to reconsider was taken in the exact position in which it was before the original vote. Four votes are necessary to adopt a motion to reconsider. It is in order for any such motion to be offered by a member who was on the prevailing side of the question when it was initially adopted.

(e) A motion to lay a matter over. Any such motion shall require a majority vote of at least three members of the Commission; at least three votes will be required for any subsequent motion to take any such matter from the table. Any such motion shall be undebatable. Any such matter which is laid on the table pursuant to these rules shall be taken from the table pursuant to these rules at the next subsequent meeting or the matter dies. In order to table any agenda item which was placed on the agenda for a particular meeting by a Member of the Commission who is absent at that meeting a vote of a majority of at least three members of the Commission is required for approval. A motion to lay a matter over takes precedence over any motion to move the previous question.

(f) A motion to postpone consideration of a matter to a date certain. Any such motion shall require a majority vote of at least three members of the Commission.

(g) A motion to move the previous question.

(h) A motion in the nature of a substitute.

(i) A motion to amend. Any motion to amend takes precedence over the motion that it proposes to amend but is subordinate to all other motions. The effect of the foregoing is that the adoption of any such motion to amend does not result in the adoption of the motion to be amended; instead, that motion remains pending in its modified form. Rejection of a motion to amend leaves the pending motion as it was before the amendment was offered.

F. Personal Privilege

Any Commissioner may as a matter of personal privilege obtain recognition to speak upon any subject matter which in his or her judgment may affect the Commission or the Commissioner.

G. General Consent

In cases where there appear to be no opposition, the Chairman may state that in the absence of objection, action shall be considered taken on a matter.

H. Members Subsequently Recorded as Voting

Whenever any Member of the Commission who was absent when a vote was taken subsequently requests consent to be recorded as having voted on the matter, he or she shall place the reason for his or her absence on the record. Any such request shall be in order only on the same day on which the vote was taken.

I. Points of Order

Points of order shall be debatable at the discretion of the chair. Any Member of the Commission may appeal any decision of the chair but for any such appeal to prevail it must receive a majority vote of at least three Members of the Commission.

J. Proxies

No vote by any Member of the Commission with respect to any matter may be cast by proxy; 2 U.S.C. 437c(c).

K. Miscellany

Any parliamentary situation or circumstance not addressed in these Rules shall be governed by Roberts Rules of Order, Newly Revised or if not covered therein by a decision of the Chairman. Any Member of the Commission may appeal any such decision of the Chair but for any such appeal to prevail it must receive a majority vote of at least three Members of the Commission.

L. Special Rules To Apply Only When the Commission Has Fewer Than Four Members

When the Commission has fewer than four Members, all of the foregoing provisions of this directive shall apply, except as follows:

1. Notwithstanding section A.2 of this directive, the word “meeting” shall mean the collegiate deliberation of two or more Members.

2. Notwithstanding section B of this directive, all Members of the Commission must be present to constitute a quorum for the consideration or resolution of any matter. If any Member of the Commission is absent at any time during a Commission meeting, the Chairman shall automatically declare a temporary recess (notwithstanding the absence of a call for a quorum) until a quorum is again present at which time the meeting may resume.

3. When these special rules are in effect, the Commission may discuss any matter otherwise in order for discussion pursuant to the other provisions of this Directive. However, the Commission may not act on any matter except for the following:

(a) Documents such as Campaign Guides and any other brochures or public education materials that may customarily be voted on by the Commission;

(b) Notices of filing dates, including filing dates for special elections;

(c) Any action otherwise requiring Commission approval with respect to FEC Conferences or invitations for public appearances;

(d) Election of which Members shall serve as chairman and vice chairman solely for the period during which the Commission has fewer than four Members, provided that in each instance that there is a Member eligible to hold the position pursuant to the eligibility requirements of 2 U.S.C. 437c(a)(5);

(e) Appointment of an acting general counsel, an acting staff director, an acting chief financial officer or an acting inspector general, approval of temporary personnel actions at the GS-15 level and above, and approval of other personnel actions;

(f) Budget estimates or requests for concurrent submission to the President and Congress, and other budget related matters requiring Commission approval;

(g) Minutes of previous meetings;

(h) Non-filer notices issued pursuant to 2 U.S.C. 438(a)(7);

(i) Debt settlement plans pursuant to 11 CFR Part 116;

(j) Administrative terminations pursuant to 11 CFR 102.4 and Commission Directive 45;

(k) Systems of Records Notices pursuant to the Privacy Act;

(l) Policies, procedures and directives pursuant to the Privacy Act or Section 522 of the Consolidated Appropriations Act, 2005;

(m) Agency head review of labor-management agreements;

(n) Any other action where a statute imposes a duty of “agency head review” on the Commission;

(o) Appeals under the Freedom of Information and Privacy Acts;

(p) Sunshine Act recommendations for items on an agenda;

(q) Contracts;

(r) The FEC Management Plan, pursuant to OMB Circular A-123 and the Federal Managers' Financial Integrity Act;

(s) Corrective action plans prepared in response to audits both financial and non-financial pursuant to FEC Directive 50 and/or the Accountability of Tax Dollars Act; or,

(t) EEO-related Federal Register notices.

4. Notwithstanding any provision of sections E, I or K of this directive, approval of any motion or appeal properly before the Commission under this section L shall require the affirmative vote of a majority of the Members of the Commission. However, if such majority comprises exclusively the affirmative votes of Members affiliated with the same political party (or Members whose positions are aligned for the purpose of nomination by the President), then the motion or appeal shall be deemed not approved.

5. Section H of this directive shall not be operative during any period in which these special rules are in effect.

Dated: January 24, 2008.
David M. Mason,
Chairman, Federal Election Commission.

[FR Doc. E8-1565 Filed 1-29-08; 8:45 am]

BILLING CODE 6715-01-P